POSTAL REGULATORY COMMISSION

[Docket Nos. RM2024-9 and PI2025-6; Order No. 9175]

RIN 3211-AA39

Service Performance Measurement Systems for Market Dominant Products

AGENCY: Postal Regulatory Commission.

ACTION: Notice.

SUMMARY: The Commission is acknowledging that the Postal Service's planned revisions to its Service Performance Measurement (SPM) Plan for Market Dominant products. Docket No. PI2025-6 will be considered as part of Docket No. RM2024-9. This document invites public comments and takes other administrative steps.

DATES: Comments are due: September 23, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: This Order filed, in Docket No. RM2024-9 and Docket No. PI2025-6, states that certain planned revisions to the Postal Service's Service Performance Measurement (SPM) Plan, which were filed by the Postal Service pursuant to 39 CFR 3055.5 in Docket No. PI2025-6, will be considered by the Commission in pending Docket No. RM2024-9.

Comments on the proposed revisions should be filed in Docket No. RM2024-9 by September 23, 2025. The Commission has specific authority to revise its rules “whenever it shall appear that . . . (B) the quality of service data has become significantly inaccurate or can be significantly improved; or (C) such revisions are, in the judgment of the Commission, otherwise necessitated by the public interest.” 39 U.S.C. 3652(e)(2). The Commission is particularly interested in commenters' views on whether the planned revisions materially impact the accuracy, reliability, or utility of the reported measurement and whether any changes should be made to the Commission's rules (including 39 CFR 3055.2(n) and 3055.31(h)).

By the Commission.
Erica A. Barker,
Secretary.

[FR Doc. 2025-17749 Filed 9-12-25; 8:45 am]

BILLING CODE 7710-FW-P